ENVIRONMENTAL PROTECTION AGENCY

40 CFR Part 745

[EPA-R04-OPPT-2010-0789; FRL-9457-7]

Lead-Based Paint Renovation, Repair and Painting, and Pre-Renovation Education Activities in Target Housing and Child Occupied Facilities; North Carolina and Mississippi; Notice of Self-certification Program Authorization, Request for Public Comment, Opportunity for Public Hearing

AGENCY: Environmental Protection Agency (EPA).

ACTION: Program authorization, request for comments and opportunity for public hearing.

SUMMARY: This notice announces that on January 21, 2010, the State of North Carolina and on March 31, 2010, the State of Mississippi were deemed authorized under section 404(a) of the Toxic Substances Control Act (TSCA), 15 U.S.C. 2684(a), to administer and enforce requirements for a renovation, repair and painting program in accordance with section 402(c)(3) of TSCA, 15 U.S.C. 2682(c)(3), and a lead-based paint pre-renovation education program in accordance with 406(b) of TSCA, 15 U.S.C. 2686(b). This notice also announces that EPA is seeking comment during a 45-day public comment period, and is providing an opportunity to request a public hearing within the first 15 days of this comment period, on whether these North Carolina and Mississippi programs are at least as protective as the Federal programs and provide for adequate enforcement. This notice also announces that the authorization of the North Carolina and Mississippi 402(c)(3) and 406(b) programs, which were deemed authorized by regulation and statute on January 21, 2010, and March 31, 2010, respectively, will continue without further notice unless EPA, based on its own review and/or comments received during the comment period, disapproves one or both of these North Carolina and Mississippi program applications.

DATES: Comments, identified by Docket Control Number EPA-R04-OPPT-2010-0789, must be received on or before October 27, 2011. In addition, a public hearing request must be submitted on or before September 27, 2011.

ADDRESSES: Comments and requests for a public hearing may be submitted by mail, electronically, or in person. Please follow the detailed instructions for each method as provided in Section I of the SUPPLEMENTARY INFORMATION. To ensure proper receipt by EPA, it is important that you identify Docket Control Number EPA-R04-OPPT-2010-0789 in the subject line on the first page of your response.

FOR FURTHER INFORMATION CONTACT: Elizabeth Wilde, Technical Contact, Children's Health and Lead Section, Pesticides and Toxics Substances Branch, Air, Pesticides and Toxics Management Division, United States Environmental Protection Agency, 61 Forsyth Street, Atlanta, Georgia 30303-8960. The telephone number where Ms. Wilde can be reached is: (404) 562-8998. Ms. Wilde can be contacted via electronic mail at wilde.liz@epa.gov.

SUPPLEMENTARY INFORMATION:

Table of Contents

I. General Information

II. Background

III. State Program Description Summaries

IV. Federal Overfiling

V. Withdrawal of Authorization

I. General Information

A. Does this action apply to me?

This action is directed to the public in general, to entities offering Lead Safe Renovation courses, and to firms and individuals engaged in renovation and remodeling activities of pre-1978 housing and child-occupied facilities in the States of Mississippi and North Carolina. Individuals and firms falling under the North American Industrial Classification System (NAICS) codes 231118, 238210, 238220, 238320, 531120, 531210, 53131, e.g., General Building Contractors/Operative Builders, Renovation Firms, Individual Contractors, and Special Trade Contractors like Carpenters, Painters, Drywall workers, and Plumbers, “Home Improvement” Contractors, as well as Property Management Firms and some Landlords are also affected by these rules. This listing is not intended to be exhaustive, but rather provides a guide for readers regarding entities likely to be affected by this action. Other types of entities not listed here could also be affected. The NAICS codes have been provided to assist you and others in determining whether this action might apply to certain entities. If you have any questions regarding the applicability of this action to a particular entity, consult the technical person listed under FOR FURTHER INFORMATION CONTACT.

B. How can I get additional information, including copies of this document or other related documents?

1. Electronically: you may obtain electronic copies of this document, and certain other related documents that might be available electronically, from the EPA Internet Home Page at http://www.epa.gov/ or from http://www.regulations.gov/. You can also go directly to the Federal Register listings at http://www.gpoaccess.gov/fr/.

2. In person: you may read this document, and certain other related documents, by visiting the North Carolina Department of Health and Human Services, 1912 Mail Service Center, Raleigh, NC 27699-1912, contact person, Mr. Donald Chaney, telephone number: (919) 707-5974, or by visiting the Mississippi Department of Environmental Quality, 101 W. Capitol St., Jackson, MS 39201, contact person, Mr. Jimmie Asbill, telephone number (601) 961-5164. You may also read this document, and certain other related documents, by visiting the United States Environmental Protection Agency, Region 4 Office, 61 Forsyth Street, Atlanta, Georgia 30303-8960. You should arrange your visit to the EPA office by contacting the technical person listed under FOR FURTHER INFORMATION CONTACT. Also, EPA has established an official record for this action under Docket Control Number EPA-R04-OPPT-2010-0789. The official record consists of the documents specifically referenced in this action, this notice, the State of North Carolina and Mississippi 402(c)(3) and 406(b) program authorization applications, any public comments received during an applicable comment period, and other information related to this action.

C. How and to whom do I submit comments?

You may submit comments through the mail, in person, or electronically. To ensure proper receipt by EPA, it is important that you identify Docket Identification Number EPA-R04-OPPT-2010-0789 in the subject line on the first page of your response.

Submit your comments, by one of the following methods:

1. http://www.regulations.gov: Follow the on-line instructions for submitting comments.

2. By mail: Submit your comments and hearing requests to: Elizabeth Wilde, Technical Contact, Children's Health and Lead Section, Air, Pesticides and Toxics Management Division, U.S. Environmental Protection Agency, 61 Forsyth Street, Atlanta, GA 30303-8960.

3. By person or courier: Deliver your comments and hearing requests to: Children's Health and Lead Section, Pesticides and Toxic Substances Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 a.m. to 4:30 p.m., excluding Federal holidays.

4. By fax: 404-562-8973.

5. By e-mail: You may submit your comments and hearing requests electronically by e-mail to: wilde.liz@epa.gov, or mail your computer disk to the address identified above. Do not submit any information electronically that you consider Confidential Business Information (CBI). Electronic comments must be submitted as an ASCII file avoiding the use of special characters and any form of encryption. Comments and data will also be accepted on standard disks in Microsoft Word or ASCII file format.

Instructions: Direct your comments to Docket ID Number EPA-R04-OPPT-2010-0789. EPA's policy is that all comments received will be included in the public docket without change and may be made available online at http://www.regulations.gov including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption, and be free of any defects or viruses. For additional information about EPA's public docket, visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy.

D. How should I handle CBI information that I want to submit to the agency?

Do not submit this information to EPA through regulations.gov or e-mail. Clearly mark on each page the part or all of the information that you claim to be CBI. For CBI information in a disk or CD-ROM that you mail to EPA, mark the outside of the disk or CD-ROM that you mail to EPA as CBI, and then identify electronically within the disk or CD-ROM the specific information that is claimed as CBI. In addition to one complete version of the comment that includes information claimed as CBI, a copy of the comment that does not contain the information claimed as CBI must be submitted for inclusion in the public docket. Information so marked as CBI will not be disclosed except in accordance with procedures set forth in 40 CFR part 2. If you have any questions about CBI or the procedures for claiming CBI, please consult the technical person identified under FOR FURTHER INFORMATION CONTACT.

E. What should I consider as I prepare my comments for EPA?

You may find the following suggestions helpful for preparing your comments.

1. Explain your views as clearly as possible.

2. Describe any assumptions that you use.

3. Provide copies of any technical information and/or data you use that support your views.

4. If you estimate potential burden or costs, explain how you arrive at the estimate that you provide.

5. Provide specific examples to illustrate your concerns.

6. Offer alternative ways to improve the notice or collection activity.

7. Make sure to submit your comments by the deadline in this notice.

8. To ensure proper receipt by EPA, identify the Docket Control Number assigned to this action in the subject line on the first page of your response. You may also provide the name, date, and Federal Register citation.

II. Background

A. What action is the agency taking?

EPA is announcing that the State of North Carolina on January 21, 2010, and the State of Mississippi on March 30, 2010, were deemed authorized under section 404(a) of TSCA, and 40 CFR 745.324(d)(2), to administer and enforce requirements for a renovation, repair and painting program in accordance with section 402(c)(3) of TSCA, 15 U.S.C. 2682(c)(3), and a lead-based paint pre-renovation education program in accordance with section 406(b) of TSCA, 15 U.S.C. 2686(b). This notice also announces that EPA is seeking comment and providing an opportunity to request a public hearing on whether both the States' programs are at least as protective as the Federal programs and provide for adequate enforcement. The 402(c)(3) program ensures that training providers are accredited to teach renovation classes, that individuals performing renovation activities are properly trained and certified as renovators, that firms are certified as renovation firms, and that specific work practices are followed during renovation activities. The 406(b) program ensures that owners and occupants of target housing are provided information concerning potential hazards of lead-based paint exposure before certain renovations are begun.

On January 21, 2010, North Carolina submitted an application under section 404 of TSCA requesting authorization to administer and enforce requirements for a renovation, repair and painting program in accordance with section 402(c)(3) of TSCA, and a pre-renovation education program in accordance with section 406(b) of TSCA, and submitted a self-certification that these programs are at least as protective as the Federal programs and provides for adequate enforcement. Therefore, pursuant to section 404(a) of TSCA, and 40 CFR 745.324(d)(2), the North Carolina renovation program and pre-renovation education program are deemed authorized as of the date of submission and until such time as the Agency disapproves the program application or withdraws program authorization. Pursuant to section 404(b) of TSCA and 40 CFR 745.324(e)(2), EPA is providing notice, opportunity for public comment and opportunity for a public hearing on whether North Carolina's program application for both programs is at least as protective as the Federal programs and provides for adequate enforcement. If a hearing is requested and granted, EPA will issue a Federal Register notice announcing the date, time and place of the hearing. The authorization of the North Carolina 402(c)(3) and 406(b) programs, which were deemed authorized by EPA on January 21, 2010, will continue without further notice unless EPA, based on its own review and/or comments received during the comment period, disapproves one or both of these North Carolina program applications.

On March 30, 2010, Mississippi submitted an application under section 404 of TSCA requesting authorization to administer and enforce requirements for a renovation, repair and painting program in accordance with section 402(c)(3) of TSCA, and a pre-renovation education program in accordance with section 406(b) of TSCA, and submitted a self-certification that these programs are at least as protective as the Federal programs and provides for adequate enforcement. Therefore, pursuant to section 404(a) of TSCA, and 40 CFR 745.324(d)(2), the Mississippi renovation program and pre-renovation education program are deemed authorized as of the date of submission and until such time as the Agency disapproves the program application or withdraws program authorization. Pursuant to section 404(b) of TSCA and 40 CFR 745.324(e)(2), EPA is providing notice, opportunity for public comment and opportunity for a public hearing on whether Mississippi's application for both programs is at least as protective as the Federal programs and provides for adequate enforcement. If a hearing is requested and granted, EPA will issue a Federal Register notice announcing the date, time and place of the hearing. The authorization of the Mississippi 402(c)(3) and 406(b) programs, which were deemed authorized by EPA on May 3, 2010, will continue without further notice unless EPA, based on its own review and/or comments received during the comment period, disapproves one or both of these Mississippi program applications.

B. What is EPA's authority for taking this action?

On October 28, 1992, the Housing and Community Development Act of 1992, Public Law 102-550, became law. Title X of that statute was the Residential Lead-Based Paint Hazard Reduction Act of 1992. That Act amended TSCA (15 U.S.C. 2601 et seq.) by adding Title IV (15 U.S.C. 2681-2692), entitled “Lead Exposure Reduction.” On April 22, 2008, EPA promulgated the final TSCA section 402(c)(3) regulations governing renovation activities. See 73 FR 21692. These regulations require that in order to do renovation activities for compensation, renovators must first be properly trained and certified, must be associated with a certified renovation firm, and must follow specific work practice standards, including recordkeeping requirements. In addition, the rule prescribes requirements for the training and certification of dust sampling technicians. On June 1, 1998, EPA promulgated the final TSCA section 406(b) regulations governing pre-renovation education requirements in target housing. See 63 FR 29908. This program ensures that owners and occupants of target housing are provided information concerning potential hazards of lead-based paint exposure before certain renovations are begun on that housing. In addition to providing general information on the health hazards associated with exposure to lead, EPA developed the lead hazard information pamphlet. This pamphlet advises owners and occupants to take appropriate precautions to avoid exposure to lead-contaminated dust and debris that are sometimes generated during renovations. EPA believes that regulation of renovation activities and the distribution of the pamphlet will help to reduce the exposures that cause serious lead poisonings, especially in children under age 6, who are particularly susceptible to the hazards of lead.

Under section 404 of TSCA, a state may seek authorization from EPA to administer and enforce its own pre-renovation education program or renovation, repair and painting program in lieu of the Federal programs. The regulations governing the authorization of a state program under both sections 402 and 406 of TSCA are codified at 40 CFR part 745, subpart Q. States that choose to apply for program authorization must submit a complete application to the appropriate regional EPA office for review. Those applications will be reviewed by EPA within 180 days of receipt of the complete application. To receive EPA approval, a state must demonstrate that its program is at least as protective of human health and the environment as the Federal program, and provides for adequate enforcement, as required by Section 404(b) of TSCA. EPA's regulations at 40 CFR Part 745, subpart Q, provide the detailed requirements a state program must meet in order to obtain EPA approval. A state may choose to certify that its own pre-renovation education program or renovation, repair and painting program meets the requirements for EPA approval, by submitting a letter signed by the Governor or Attorney General stating that the program is at least as protective of human health and the environment as the Federal program and provides for adequate enforcement. Upon submission of such a certification letter, the program is deemed authorized pursuant to TSCA section 404(a) and 40 CFR 745.324(d)(2). This authorization becomes ineffective, however, if EPA disapproves the application or withdraws the program authorization.

III. State Program Description Summaries

The following program summary is from North Carolina's self-certification application:

Program Summary; State of North Carolina; Renovation, Repair, and Painting Program/Lead-Safe Renovator Certification Program

The State of North Carolina has implemented a lead-based paint hazard management program for renovation, repair, and painting in lieu of having a Federally administered program apply in the State. The Lead-Based Paint Hazard Management Program for Renovation, Repair and Painting (LHMP-RRP) is implemented through the North Carolina Department of Health and Human Services, Division of Public Health, Health Hazards Control Unit (NCDHHS). The North Carolina Legislature ratified House Bill 1151 on August 11, 2009, granting the North Carolina Commission for Public Health (CPH) authority to establish Rules. The CPH approved the LHMP-RRP Temporary Rules on October 30, 2009. The LHMP-RRP Rules (10A NCAC 41C .0900-.0907) became effective date on January 1, 2010, and implementation of the Program was effective January 1, 2010.

Requirements of the LHMP-RRP include the following: accreditation of renovation and dust sampling technician training providers and training courses; certification of renovation firms and individuals that perform renovations, cleaning verification and dust sampling in target housing or child occupied facilities; required work practice standards for lead-based paint renovation activities: record retention, information distribution and reporting requirements.

The LHMP-RRP Rules are applicable to all persons engaged in renovation activities for compensation in target housing and child-occupied facilities built before 1978. However, an individual who performs renovations of a residential dwelling that is owned and occupied by that person, or that person's immediate family, is exempt from the requirements. Definitions are adopted from the EPA Federal regulation, contained in 40 CFR Part 745 subparts E and L. The Federal and LHMP regulations do not mandate the performance of renovation activities, but instead establish requirements and procedures to follow when renovation activities are conducted.

The LHMP-RRP regulatory requirements for the accreditation of lead-based paint renovation activities training programs are consistent with the accreditation of the Federal program. Training providers conducting training in North Carolina must be accredited by the NCDHHS Program. All initial and refresher training courses conducted in North Carolina must be accredited by the NCDHHS Program.

Several requirements of the state program that are not included in the Federal program include: a requirement that approval of the training program's course is contingent on submittal of an application and successfully completing an on-site audit, and training providers must submit a written notification of intent to teach the course in North Carolina ten working days prior to the start date of the course.

The state certification requirements include the certification of firms and individual categories of renovator and dust sampling technician. Each individual certification category must submit an application for certification, meet required training course requirements and be employed by a certified renovation firm when conducting renovation activities for compensation.

Work practice standards that are required for performing lead-based paint renovation activities for compensation in target housing or child-occupied facilities are equivalent to the work practice standards in the Federal regulations.

The LHMP-RRP compliance and enforcement elements are comparable to the compliance and enforcement requirements of the Federal program. As in the Federal regulations, the Rules provide for the suspension and revocation of training provider accreditation, training course accreditation, firm certification and individual certification. Additionally, administrative and civil penalties may be assessed for violations. Criminal actions can also be pursued. The renovation firm and individual certification requirements assist in conducting an effective compliance and enforcement program.

North Carolina's LHMP-RRP provides for establishing reciprocity agreements with other states, Tribes, or territories with authorized programs which have consistent requirements for certification of individuals and firms and accreditation of training courses and providers. The Federal regulations encourage states to establish reciprocity procedures.

North Carolina's LHMP-RRP requires that information be provided to the person contracting for the renovation when an EPA-recognized test kit is used to determine the presence of lead-based paint prior to the start of renovation activities.

Outreach activities have a high priority in the LHMP-RRP. The objective of the outreach program is to educate and make the public and regulated community aware of the hazards of lead-based paint and of the regulatory requirements applicable to lead-based paint renovation activities. The overall goal of the outreach program is to protect public health and the environment from the hazards of lead-based paint.

The cost of the State program will be supported by available Federal grants and fees collected by NCDHHS. The LHMP-RRP provides for the collection of fees and allows for acceptance of Federal grants. Fees are assessed for the accreditation of training providers and training courses, certification of renovation firms and dust sampling technicians.

The following program summary is from Mississippi's self certification application:

Program Summary; State of Mississippi; Renovation, Repair, and Painting Program; Lead-Safe Renovator Certification Program

The State of Mississippi, through the Mississippi Department of Environmental Quality (MDEQ), will implement the lead-based paint Renovation, Repair, and Painting Program and the Pre-Renovation Education Program. Requirements of the programs will include accreditation of lead-based paint renovation activities in target housing and child-occupied facilities, required work practice standards for conducting lead-based paint renovation activities, and pre-renovation education requirements that must be followed prior to performing a renovation.

Regulations setting out the procedures and requirements for the accreditation of lead-based paint activities training programs, the certification of individuals and firms engaged in lead-based paint renovation activities, the work practice standards to be followed in performing lead-based paint renovation activities and required pre-renovation education requirements were adopted by the Mississippi Commission on Environmental Quality on December 10, 2009. Requirements under the regulations will be applicable beginning on the effective date of the regulations. Authority to administer and enforce a state program as protective as the Federal lead-based paint program was provided for in the amended “Lead-Based Activity Accreditation and Certification Act” which was passed by the Mississippi Legislature during its 2009 regular session.

Mississippi's lead-based paint renovation program regulations are applicable to all persons engaged in lead-based paint activities in target housing and child-occupied facilities. However, persons who perform lead-based paint activities within residential dwellings they own are exempt from the regulations unless the residential dwelling is occupied by a person or persons other than the owner or owner's immediate family while these activities are being performed, or a child having an elevated blood lead level resides in the building. Also exempt from the required work practice standards of the regulations are renovations performed in target housing if the firm performing the renovation has obtained a statement signed by the owner that the renovation will occur in the owner's residence, no child under age 6 resides there, no pregnant woman resides there, the housing is not a child-occupied facility, and the owner acknowledges that the renovation firm will not be required to use the work practices applicable to renovation activities. Also, the regulations do not require the performance of lead-based paint renovation activities, but establish requirements and procedures to follow when lead-based paint renovations are performed.

Pursuant to Mississippi's statute and regulations, each department, agency, and instrumentality of the executive, legislative, and judicial branches of the Federal Government having jurisdiction over any property or facility, or engaged in any activity resulting, or which may result, in a lead-based paint hazard, and each officer, agent, or employee thereof shall be subject to, and comply with all of the requirements of these regulations regarding lead-based paint renovation activities.

The State regulatory requirements for the accreditation of lead-based paint activities training programs are consistent with the accreditation requirements of the Federal program. The Federal model plan was followed in developing the State accreditation requirements. All initial and refresher lead-based paint activities training programs must be accredited. Several requirements of the State accreditation program which are not included in the Federal regulations are: (1) A requirement that the principal instructors and guest instructors teaching hands-on work practice standards must successfully complete the training course requirements of the accredited training course to be taught; (2) a requirement that training programs notify the MDEQ prior to conducting a training course; and (3) a requirement that approval of a training program's lead-based paint activities course is contingent on a satisfactory on-site course audit.

The State renovation certification program requirements include the certification of firms, renovators and dust sampling technicians. The State program certification requirements are essentially equivalent to the Federal requirements. Each certification discipline must meet required academic and/or experience requirements of the State program regulations to be certified. The State program will require renovators and dust sampling technicians to be certified with the certification to be renewed annually. Certification will enable the program to ensure individuals performing as renovators and dust sampling technicians are properly trained and qualified to perform those activities. Yearly renewals will enable the State program to conduct a more effective certification program. The certification will assist the program inspectors in assuring qualified individuals are on the work site.

The State program work practice standards that must be followed by persons performing lead-based paint renovation activities in target housing and child-occupied facilities are equivalent to the work practice standards in the Federal regulations. The work practice standards in the Federal regulations were followed in developing the State work practice standards. An additional requirement of the State program (which is not included in the Federal program) requires the filing of a project notification, in writing, prior to the commencement of any lead-based paint renovation activity. The project notification requirement will assist in conducting an effective compliance and enforcement program.

The State program provides for establishing reciprocity arrangements with other states and/or Indian Tribes with authorized programs which have certification, educational, and experience requirements consistent with those of the State of Mississippi and which grants equal certificating and accreditation privileges to persons certified and training programs accredited in Mississippi. This provision is consistent with the Federal regulations which encourage states to establish reciprocity procedures.

The State renovation program will include the pre-renovation education program requirements of the Federal Pre-Renovation Education (PRE) program. These program requirements were adopted by the legislature during the 2009 legislative session. The pamphlet, Renovate Right: Important Lead Hazard Information for Families, Child Care Providers and Schools, must be distributed per the regulations prior to the beginning of any renovation project by a firm. Outreach activities have a high priority in the State program. The objective of the outreach program is to educate and make the public and regulated community aware of the hazards of lead-based paint. The outreach program will also inform the public and regulated community of the regulatory requirements applicable to lead-based paint activities. The overall goal of the outreach program is to protect the environment and health of the people within the State.

The cost of the State program will be supported by Federal grants and fees. The fees will be assessed for certification of individuals and firms, accreditation of training programs and renovations projects.

The Mississippi Commission on Environmental Quality and the Mississippi Department of Environmental Quality have adequate authority to administer and enforce all regulatory requirements of the State program. The enforcement authorities provided by State statutes and regulations are adequate to ensure the State program is as protective as the Federal program. The compliance and enforcement elements of the State program are comparable to the compliance and enforcement elements of the Federal program. As provided for in the Federal program, the State program provides for the suspension, revocation, or modification of training program accreditation and certifications of individuals and firms.

IV. Federal Overfiling

Section 404(b) of TSCA makes it unlawful for any person to violate, or fail or refuse to comply with, any requirement of an approved State program. Therefore, EPA reserves the right to exercise its enforcement authority under TSCA against a violation of, or a failure or refusal to comply with, any requirement of an authorized State program.

V. Withdrawal of Authorization

Pursuant to section 404(c) of TSCA, the EPA Administrator may withdraw authorization of a State or Indian Tribal renovation, repair and painting program, and/or a lead-based paint pre-renovation education program, after notice and opportunity for corrective action, if the program is not being administered or enforced in compliance with standards, regulations, and other requirements established under the authorization. The procedures U.S. EPA will follow for the withdrawal of an authorization are found at 40 CFR 745.324(i).

List of Subjects in 40 CFR 745

Environmental protection, Hazardous substances, Lead Poisoning, Reporting and recordkeeping requirements.

Dated: August 11, 2011.
A. Stanley Meiburg,
Acting Regional Administrator, Region 4.

[FR Doc. 2011-23257 Filed 9-9-11; 8:45 am]

BILLING CODE 6560-50-P